DEPARTMENT OF COMMERCE

Census Bureau

Proposed Information Collection; Comment Request; Generic Clearance for Master Address File (MAF) and Topologically Integrated Geographic Encoding and Referencing (TIGER) Update Activities

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before December 7, 2015.

ADDRESSES: Direct all written comments to Jennifer Jessup, Departmental Paperwork Clearance Officer, Department of Commerce, Room 6616, 14th and Constitution Avenue NW, Washington, DC 20230 (or via email at jjessup@doc.gov).

FOR FURTHER INFORMATION CONTACT: Requests for additional information or copies of the information collection instrument(s) and instructions should be directed to Mike Benton, U.S. Census Bureau, 5H022D, Washington DC 20233, 301-763-2860 (or via email at Mike.Benton@census.gov).

SUPPLEMENTARY INFORMATION:

I. Abstract

The Census Bureau presently operates a generic clearance covering activities involving respondent burden associated with updating our Master Address File (MAF) and Topologically Integrated Geographic Encoding and Referencing (TIGER) Database (MTdb). The MTdb is the Census Bureau's integrated address geographic database. We now propose to extend the generic clearance to cover update activities we will undertake during the next three fiscal years.

Under the terms of the generic clearance, we plan to submit a request for OMB approval that will describe, in general terms, all planned activities for the entire period. We will provide information to OMB at least two weeks before the planned start of each activity giving more exact details, examples of forms, and final estimates of respondent burden. We also will file a year-end summary with OMB after the close of each fiscal year giving results of each activity conducted. The generic clearance enables OMB to review our overall strategy for MTdb updating in advance, instead of reviewing each activity in isolation shortly before the planned start.

The Census Bureau used the addresses in the MTdb for mailing and delivering questionnaires to households during the 2010 Census and will do so for the 2020 Census. These addresses are also used as a sampling frame for our demographic current surveys. Prior to Census 2000, the Census Bureau built a new address list for each decennial census. The MTdb built for the 2010 Census is designed to be kept up-to-date, thereby eliminating the need to develop a completely new address list for future censuses and surveys. The Census Bureau plans to use the MTdb for post-Census 2010 evaluations and as a sampling frame for the American Community Survey and our other demographic current surveys. The TIGER component of the MTdb is a geographic system that maps the entire country in Census Blocks with applicable address ranges or living quarter location information. The MTdb allows us to assign each address to the appropriate Census Block, produce maps as needed and publish results at the appropriate level of geographic detail. The following are descriptions of activities we plan to conduct under the clearance for the next three fiscal years. The Census Bureau has conducted these activities (or similar ones) previously and the respondent burden remains relatively unchanged from one time to another. The estimated number of respondents is based on historical contact data, and applied to the number of Census Blocks in sample.

Demographic Area Address Listing (DAAL)

The Demographic Area Address Listing (DAAL) program encompasses the geographic area updates for the Community Address Updating System (CAUS) and the National Health Interview Survey (NHIS), the area and group quarters frame listings for many ongoing demographic surveys (the Current Population Survey, the Consumer Expenditures Survey, etc.), and any other operations which choose to use the Listing and Mapping Application (LiMA) for evaluations, assessments, or to collect updates for the MTdb. Note that LiMA replaced the Automated Listing and Mapping System (ALMI). The CAUS program was designed to address quality concerns relating to areas with high concentrations of noncity-style addresses, and to provide a rural counterpart to the update of city-style addresses the Census Bureau will receive from the U.S. Postal Services's Delivery Sequence File. The ongoing demographic surveys, as part of the 2000 Sample Redesign Program, use the MTdb as one of several sources of addresses from which they select their samples.

The DAAL program is a cooperative effort among many divisions at the Census Bureau; it includes automated listing software, systems, and procedures that will allow us to conduct listing operations in a dependent manner based on information contained in the MTdb. The DAAL operations will be conducted on an ongoing basis in potentially any county across the country. Field Representatives (FRs) will canvass selected 2010 Census tabulation blocks in an effort to improve the address list in areas where substantial address changes may have occurred that have not been added to the MTdb through regular update operations, and/or in blocks in the area or group quarters frame sample for the demographic surveys. FRs will update existing address information and, when necessary, contact individuals to collect accurate location and mailing address information. In general, contact with a household will occur only when the FR is adding a unit to the address list, there is a missing mailing address flag, and/or the individual's address is not posted or visible to the FR. There is no pre-determined or scripted list of questions asked for households as part of this listing operation. If an address is not posted or visible to the FR, the FR will ask about the address of the structure, the mailing address, and, in some instances, the year the structure was built. If the occupants of these households are not at home, the FR may attempt to contact a neighbor to obtain the correct address information. DAAL will collect Group Quarters (GQ) information from all GQs in the selected blocks, there is not scripted list of questions, the FRs will ask information about the GQ such as the number of beds, the GQ name, and so on.

DAAL is an ongoing operation. Listing assignments are distributed quarterly with the work conducted throughout the time period. We expect the DAAL listing operation will be conducted throughout the entire time period of the extension.

MAF Coverage Study

The MAF Coverage Study (MAFCS) is an ongoing Address Canvassing operation designed to produce MAF coverage estimates at national and sub-national levels. In addition, MAFCS will evaluate the in-office address canvassing operation and provide continuous updates to the MAF for current surveys and the Census. MAFCS leverages existing Census Bureau programs and systems to achieve these objectives. Data collection for MAFCS will occur using DAAL and DAAL staff; hence, there will be a large increase to the DAAL operation workload.

II. Method of Collection

The primary method of data collection for most operations/evaluations will be personal observation or personal interview by FRs using the operation/evaluation's listing form or questionnaire. In some cases, the interview could be by telephone callback if no one was home during the initial visit.

III. Data

OMB Control Number: 0607-0809.

Form Number: Some form numbers for activities have not yet been assigned.

Type of Review: Regular submission.

Affected Public: Individuals or households.

Estimated Number of Respondents:

FY16: 60,000 HH

2,000 GQs

FY17: 60,000 HH

2,000 GQs

FY18: 60,000 HH

2,000 GQs

Estimated Time per Response: 3 min/HH; 10 min/GQ

Estimated Total Annual Burden Hours:

FY16: 3,333

FY17: 3,333

FY18: 3,333

Estimated Total Annual Cost to Public: $0

Respondent's Obligation: Mandatory.

Legal Authority: Title 13 United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 2, 2015.
Glenna Mickelson,
Management Analyst, Office of the Chief Information Officer.

[FR Doc. 2015-25506 Filed 10-6-15; 8:45 am]

BILLING CODE 3510-07-P